DEPARTMENT OF HEALTH AND HUMAN SERVICES

Centers for Disease Control and Prevention

National Institute for Occupational Safety and Health; Public Meeting

The National Institute for Occupational Safety and Health (NIOSH) of the Centers for Disease Control and Prevention (CDC) announces the following public meeting and request for information:

Name: Public Meeting to Seek Input on Gaps in Chronic Lymphocytic Leukemia Radiogenicity Research.

Time and Date: 9 a.m.-12 noon, July 21, 2004.

Place: Best Western Skyline Inn, 10 I Street, SW., Washington, DC 20024.

Status: Forum will include scientists and representatives from various government agencies, industry, labor, and other stakeholders, and is open to the public, limited only by the space available. The meeting room accommodates up to 100 people. Due to limited space, notification of intent to attend the meeting should be made with Patty Gudlewski, no later than Friday, July 16, 2004. Ms. Gudlewski can be reached by telephone at 513-841-4419, or by e-mail at pkg1@cdc.gov. Access to the meeting will be accommodated on a first-come basis.

Purpose: To discuss possible scientific research strategies to evaluate any relationship between exposure to ionizing radiation and chronic lymphocytic leukemia (CLL). Current scientific opinion, based largely on epidemiological data, holds that the incidence of CLL is not related to exposure to ionizing radiation. The U.S. Congress directed NIOSH to conduct epidemiological research and other activities to establish the scientific link between radiation exposure and the occurrence of CLL.

The public is invited to attend and will have an opportunity to provide limited comments. Written comments may be submitted to the address listed below by August 16, 2004, so that they may be considered by NIOSH in planning its research priorities.

Summary: CLL is the most common adult leukemia in the Western world, but its etiology is largely unknown. Exposures to some herbicides have been implicated in epidemiologic studies. Yet other studies to date largely have shown no evidence of an association between external ionizing radiation and CLL; however, a number of uncertainties remain and additional studies may be informative. Recent laboratory studies have identified sub-types of CLL and at least one familial form of B-cell CLL has been identified. In addition, new technologies including interphase fluorescence in situ hybridization, expression microarrays and flow cytometric analysis provide diagnostic and prognostic indicators of disease. This meeting will assist in identifying gaps in existing research needed to address the radiogenicity of CLL.

Addresses: Comments should be submitted to David F. Utterback, 4676 Columbia Parkway, M/S R-44, Cincinnati, Ohio 45226, or by e-mail to dutterback@cdc.gov. Any attachments should be formatted in Microsoft Word.

All information received in response to this notice will be available for public examination and copying.

The Director, Management Analysis and Services Office has been delegated the authority to sign Federal Register notices pertaining to announcements of meetings and other committee management activities, for both CDC and the Agency for Toxic Substances and Disease Registry.

Dated: June 4, 2004.
Alvin Hall,
Director, Management Analysis and Services Office, Centers for Disease Control and Prevention.

[FR Doc. 04-13134 Filed 6-9-04; 8:45 am]

BILLING CODE 4163-19-P